DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama:
Madison (FEMA Docket No.: B-2467). | City of Huntsville (24-04-1487P). | The Honorable Thomas Battle, Jr., Mayor, City of Huntsville, 308 Fountain Circle Southwest, 8th Floor, Huntsville, AL 35804. | City Hall, 308 Fountain Circle Southwest, Huntsville, AL 35804. | Dec. 19, 2024 | 010153
Madison (FEMA Docket No.: B-2467). | Town of Owens Cross Roads (24-04-1487P). | The Honorable Tony K. Craig, Mayor, Town of Owens Cross Roads, 9032 U.S. Highway 431, Owens Cross Roads, AL 35763. | City Hall, 9032 U.S. Highway 431, Owens Cross Roads, AL 35763. | Dec. 19, 2024 | 010218
Madison (FEMA Docket No.: B-2467). | Unincorporated areas of Madison County (24-04-1487P). | Mac McCutcheon, Chair, Madison County Commission, 100 North Side Square, Suite 700, Huntsville, AL 35801. | Madison County Water Department, 266-C Shields Road, Huntsville, AL 35811. | Dec. 19, 2024 | 010151
Colorado:
Boulder (FEMA Docket No.: B-2454). | City of Boulder (23-08-0614P). | The Honorable Aaron Brockett, Mayor, City of Boulder, 1777 Broadway, Boulder, CO 80302. | City Hall, 1777 Broadway, Boulder, CO 80302. | Nov. 18, 2024 | 080024
Douglas (FEMA Docket No.: B-2454). | Town of Castle Rock (23-08-0519P). | The Honorable Jason Gray, Mayor, Town of Castle Rock, 100 North Wilcox Street, Castle Rock, CO 80104. | Utilities Department, 175 Kellogg Court, Castle Rock, CO 80109. | Nov. 8, 2024 | 080050
Douglas (FEMA Docket No.: B-2454). | Town of Parker (23-08-0527P). | The Honorable Jeff Toborg, Mayor, Town of Parker, 20120 East Main Street, Parker, CO 80138. | Public Works and Engineering Department, 20120 East Main Street, Parker, CO 80138. | Nov. 8, 2024 | 080310
Delaware: Sussex (FEMA Docket No.: B-2454). | City of Rehoboth Beach (24-03-0249P). | The Honorable Stan Mills, Mayor, City of Rehoboth Beach, 229 Rehoboth Avenue, Rehoboth Beach, DE 19971. | Building and Licensing Department, 229 Rehoboth Avenue, Rehoboth Beach, DE 19971. | Nov. 12, 2024 | 105086
Florida:
Bay (FEMA Docket No.: B-2454). | Unincorporated areas of Bay County (23-04-1974P). | Robert Majka, Bay County Manager, 840 West 11th Street, Panama City, FL 32401. | Bay County Government Center, 840 West 11th Street, Panama City, FL 32401. | Nov. 5, 2024 | 120004
Hillsborough (FEMA Docket No.: B-2460). | City of Plant City (23-04-5362P). | Bill McDaniel, Manager, City of Plant City, 302 West Reynolds Street, Plant City, FL 33564. | City Hall, 302 West Reynolds Street, Plant City, FL 33564. | Nov. 18, 2024 | 120113
Lee (FEMA Docket No.: B-2454). | Unincorporated areas of Lee County (23-04-5900P). | David Harner, Manager, Lee County, 2115 2nd Street, Fort Myers, FL 33901. | Lee County Building Department, 1500 Monroe Street, Fort Myers, FL 33901. | Oct. 30, 2024 | 125124
Monroe (FEMA Docket No.: B-2454). | Village of Islamorada (24-04-2987P). | The Honorable Joseph “Buddy” Pinder III, Mayor, Village of Islamorada, 86800 Overseas Highway, Islamorada, FL 33036. | Village Hall, 86800 Overseas Highway, Islamorada, FL 33036. | Nov. 8, 2024 | 120424
Orange (FEMA Docket No.: B-2454). | City of Orlando (24-04-1693P). | The Honorable Buddy Dyer, Mayor, City of Orlando, 400 South Orange Avenue, Orlando, FL 32801. | Public Works Department Engineering Division, 400 South Orange Avenue, 8th Floor, Orlando, FL 32801. | Nov. 12, 2024 | 120186
Palm Beach (FEMA Docket No.: B-2454). | Unincorporated areas of Palm Beach County (24-04-0141P). | Verdenia C. Baker, Palm Beach County Administrator, 301 North Olive Avenue, Suite 1101, West Palm Beach, FL 33401. | Palm Beach County Building Division, Planning Zoning and Building Department, 2300 North Jog Road, 1st Floor, Room 1E-17, West Palm Beach, FL 33411. | Nov. 12, 2024 | 120192
Palm Beach (FEMA Docket No.: B-2454). | Unincorporated areas of Palm Beach County (24-04-0346P). | Verdenia C. Baker, Palm Beach County Administrator, 301 North Olive Avenue, Suite 1101, West Palm Beach, FL 33401. | Palm Beach County Building Division, Planning Zoning and Building Department, 2300 North Jog Road, 1st Floor, Room 1E-17, West Palm Beach, FL 33411. | Nov. 12, 2024 | 120192
Volusia (FEMA Docket No.: B-2454). | City of DeBary (24-04-1649P). | The Honorable Karen Chasez, Mayor, City of DeBary, 16 Colomba Road, DeBary, FL 32713. | City Hall, 16 Colomba Road, DeBary, FL 32713. | Nov. 18, 2024 | 120672
North Carolina:
Cumberland (FEMA Docket No.: B-2462). | Town of Hope Mills (24-04-0689P). | The Honorable Jessie Bellflowers, Mayor, Town of Hope Mills, 5770 Rockfish Road, Hope Mills, NC 28348. | Development and Planning Department, 5770 Rockfish Road, Hope Mills, NC 28348. | Nov. 20, 2024 | 370312
Cumberland (FEMA Docket No.: B-2462). | Unincorporated areas of Cumberland County (24-04-0689P). | Glenn Adams, Chair, Cumberland County Board of Commissioners, P.O. Box 1829, Fayetteville, NC 28301. | Cumberland County Engineering and Infrastructure Department, 130 Gillespie Street, Suite 214, Fayetteville, NC 28301. | Nov. 20, 2024 | 370076
Rowan (FEMA Docket No.: B-2460). | Unincorporated areas of Rowan County (23-04-5146P). | Greg Edds, Chair, Rowan County Board of Commissioners, 130 West Innes Street, Salisbury, NC 28144. | Rowan County Planning and Development Department, 402 North Main Street, #204, Salisbury, NC 28144. | Nov. 29, 2024 | 370351
Wake (FEMA Docket No.: B-2460). | Town of Holly Springs (23-04-3934P). | The Honorable Sean Mayefskie, Mayor, Town of Holly Springs, P.O. Box 8, Holly Springs, NC 27540. | Engineering Department, 128 South Main Street, Holly Springs, NC 27540. | Dec. 2, 2024 | 370403
Wake (FEMA Docket No.: B-2460). | Unincorporated areas of Wake County (23-04-3934P). | Shinica Thomas, Chair, Wake County Board of Commissioners, P.O. Box 550, Raleigh, NC 27602. | Environmental Services Department, 337 South Salisbury Street, Raleigh, NC 27601. | Dec. 2, 2024 | 370368
Pennsylvania:
Luzerne (FEMA Docket No.: B-2454). | Borough of Plymouth (24-03-0555P). | Ron Kobusky, President, Borough of Plymouth Council, 162 West Shawnee Avenue, Plymouth, PA 18651. | Borough Hall, 162 West Shawnee Avenue, Plymouth, PA 18651. | Nov. 12, 2024 | 420622
Luzerne (FEMA Docket No.: B-2454). | City of Wilkes-Barre (24-03-0556P). | The Honorable George C. Brown, Mayor, City of Wilkes-Barre, 40 East Market Street, 4th Floor, Wilkes-Barre, PA 18711. | Planning and Zoning Department, 40 East Market Street, 1st Floor, Wilkes-Barre, PA 18711. | Nov. 12, 2024 | 420631
Luzerne (FEMA Docket No.: B-2454). | Township of Hanover (24-03-0556P). | George L. Andrejko, Chair, Township of Hanover Board of Commissioners, 1267 Sans Souci Parkway, Hanover Township, PA 18706. | Township Hall, 1267 Sans Souci Parkway, Hanover Township, PA 18706. | Nov. 12, 2024 | 420608
Luzerne (FEMA Docket No.: B-2454). | Township of Plymouth (24-03-0555P). | James Murphy, Chair, Township of Plymouth Board of Supervisors, 925 West Main Street, Plymouth, PA 18651. | Township Hall, 925 West Main Street, Plymouth, PA 18651. | Nov. 12, 2024 | 420623
Texas:
Bexar (FEMA Docket No.: B-2460). | City of San Antonio (24-06-0473P). | The Honorable Ron Nirenberg, Mayor, City of San Antonio, P.O. Box 839966, San Antonio, TX 78283. | Public Works Department, Storm Water Division, 1901 South Alamo Street, 2nd Floor, San Antonio, TX 78204. | Nov. 12, 2024 | 480045
Comanche (FEMA Docket No.: B-2460). | City of Comanche (23-06-1232P). | The Honorable Mary A. Boyd, Mayor, City of Comanche, 101 East Grand Avenue, Comanche, TX 76442. | City Hall, 101 East Grand Avenue, Comanche, TX 76442. | Nov. 8, 2024 | 480151
Dallas (FEMA Docket No.: B-2460). | City of Grand Prairie (23-06-2560P). | The Honorable Ron Jensen, Mayor, City of Grand Prairie, 300 West Main Street, Grand Prairie, TX 75050. | Stormwater Department, 300 West Main Street, Grand Prairie, TX 75050. | Nov. 18, 2024 | 485472
Dallas (FEMA Docket No.: B-2460). | City of Irving (23-06-2560P). | The Honorable Rick Stopfer, Mayor, City of Irving, 825 West Irving Boulevard, Irving, TX 75060. | Capital Improvement Program, 825 West Irving Boulevard, Irving, TX 75060. | Nov. 18, 2024 | 480180
Dallas (FEMA Docket No.: B-2460). | City of Irving (24-06-0724P). | The Honorable Rick Stopfer, Mayor, City of Irving, 825 West Irving Boulevard, Irving, TX 75060. | Capital Improvement Program, 825 West Irving Boulevard, Irving, TX 75060. | Nov. 18, 2024 | 480180
Denton (FEMA Docket No.: B-2454). | City of Corinth (24-06-0452P). | Scott Campbell, Manager, City of Corinth, 3300 Corinth Parkway, Corinth, TX 76208. | Engineering Department, 1200 North Corinth Street, Corinth, TX 76208. | Nov. 18, 2024 | 481143
Denton (FEMA Docket No.: B-2454). | Unincorporated areas of Denton County (24-06-0329P). | The Honorable Andy Eads, Denton County Judge, 1 Courthouse Drive, Suite 3100, Denton, TX 76208. | Denton County Development Services Department, 3900 Morse Street, Denton, TX 76208. | Nov. 18, 2024 | 480774
Kaufman (FEMA Docket No.: B-2454). | City of Kaufman (24-06-0434P). | The Honorable Jeff Jordan, Mayor, City of Kaufman, 209 South Washington Street, Kaufman, TX 75142. | City Hall, 209 South Washington Street, Kaufman, TX 75142. | Nov. 8, 2024 | 480407

[FR Doc. 2024-29974 Filed 12-17-24; 8:45 am]

BILLING CODE 9110-12-P